DEPARTMENT OF ENERGY

Federal Energy Regulatory Commission

[Docket No. RP00-260-013]

Texas Gas Transmission Corporation; Notice of Filing of Refund Report

October 4, 2002.

Take notice that on October 2, 2002, Texas Gas Transmission Corporation (Texas Gas) tendered for filing a refund report pursuant with the provisions of Article XII of the Stipulation and Agreement (S&A) in the above-referenced docket and complying with Subpart F of Part 154 of the Commission's regulations.

Texas Gas states that the refund report details the amount of refunds made in accordance with the provisions of Article II, Section 2 of the S&A, which required Texas Gas to refund within 60 days of a Final Commission Order the difference between the amounts computed under the retroactive settlement base rates approved in Docket No. RP00-260 and the base tariff rates that were actually charged for service provided by Texas Gas for the period November 1, 2000 through July 31, 2002. Interest was computed in accordance with Subpart F, Section 154.501(d).

Texas Gas states that the refunds were made on September 16, 2002, accompanied by associated customer reports to all of Texas Gas's jurisdictional customers receiving such refunds, as well as interested state commissions.

Any person desiring to protest said filing should file a protest with the Federal Energy Regulatory Commission, 888 First Street, NE, Washington, DC 20426, in accordance with Section 385.211 of the Commission's Rules and Regulations. All such protests must be filed on or before October 11, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-25830 Filed 10-10-02; 8:45 am]

BILLING CODE 6717-01-P